GENERAL SERVICES ADMINISTRATION

[GSA Bulletin FTR 2003-B1]

eTravel Initiative

Correction

In notice document 03-6662 beginning on page 13710 in the issue of Thursday, March 20, 2003, make the following corrections:

1. On page 13710, in the second column, the fifth line “Of” should read, “If”.

2. On the same page, in the same column, under the heading Attachment, in paragraph 2. Background, in the second line “governmentside” should read, “governmentwide”.

3. On the same page, in the third column, in paragraph 4. Government Interest, in the second line “outline” should read, “online”.

4. On the same page, in the same column, under paragraph 4., in paragraph e., in the fourth line, “achieve” should read, “achieved”.

5. On the same page, in the same column, under the same paragraph, in paragraph f., in the first line, “I” should read, “If”.

6. On the same page, in the same column, under paragraph 5. Agency Planning, in paragraph c., in the fifth line, “transaction” should read, “transactions”.

7. On page 13711, in the first column, in paragraph 7. Expiration Date, in the second line, “services” should read, “service”.

[FR Doc. C3-6662 Filed 4-2-03; 8:45 am]

BILLING CODE 1505-01-D

DEPARTMENT OF TRANSPORTATION

Federal Aviation Administration

14 CFR Part 71

[Docket No. FAA-2003-14597; Airspace Docket No. 03-ACE-20]

Modification of Class E Airspace; Hampton, IA

Correction

In rule document 03-7660 beginning on page 15349 in the issue of Monday, March 31, 2003, make the following correction:

On page 15349, in the third column, in the EFFECTIVE DATE section, in the second line, “July 20, 2003” should read, “July 10, 2003.”

[FR Doc. C3-7660 Filed 4-2-03; 8:45 am]

BILLING CODE 1505-01-D

DEPARTMENT OF THE TREASURY

Internal Revenue Service

26 CFR Part 301

[TD 9050]

RIN 1545-AY08

Civil Cause of Action for Damages Caused by Unlawful Tax Collection Actions, Including Actions Taken in Violation of Section 362 or 524 of the Bankruptcy Code

Correction

In rule document 03-6597 beginning on page 14316 in the issue of Tuesday, March 25, 2003, make the following correction:

§301.7430-1 [Corrected]

On page 14319, in §301.7430-1, in the third column, in Par. 3, in the fourth line “revising the phrase ‘paragraph (e)(1), (e)(2), (e)(3), or (e)(4) of this section’” should read “in newly-designated paragraph (f) revising the phrase ‘paragraph (e)(1), (e)(2), (e)(3), or (e)(4) of this section’”.

[FR Doc. C3-6597 Filed 4-2-03; 8:45 am]

BILLING CODE 1505-01-D